DEPARTMENT OF AGRICULTURE

Grain Inspection, Packers and Stockyards Administration

Grain Inspection Advisory Committee Reestablishment

AGENCY: Grain Inspection, Packers and Stockyards Administration, USDA.

ACTION: Notice to reestablish committee.

SUMMARY: Notice is hereby given that the Secretary of Agriculture has reestablished the Grain Inspection, Packers and Stockyards Administration (GIPSA) Grain Inspection Advisory Committee (Advisory Committee). The Secretary of Agriculture has determined that the Advisory Committee is necessary and in the public interest.

FOR FURTHER INFORMATION CONTACT: Terri L. Henry, Designated Federal Official, GIPSA, USDA, Rm. 1633-S, 1400 Independence Ave., SW., Washington, DC 20250-3604; Telephone (202) 205-8281; Fax (202) 690-2755; E-mail Terri.L.Henry@usda.gov.

SUPPLEMENTARY INFORMATION: The purpose of the Advisory Committee is to provide advice to the Administrator of GIPSA with respect to the implementation of the U.S. Grain Standards Act (7 U.S.C. 71 et seq.). Additional information on the Advisory Committee is available on the Internet at http://www.gipsa.usda.gov.

John Giler,
Acting Administrator, Grain Inspection, Packers and Stockyards Administration.

[FR Doc. E9-4289 Filed 2-27-09; 8:45 am]

BILLING CODE 3410-KD-P